DEPARTMENT OF JUSTICE

Antitrust Division

Notice Pursuant to the National Cooperative Research and Production Act of 1993—DVD Copy Control Association

Notice is hereby given that, on February 20, 2013, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Optis Co., Ltd., Gyeonggi-do, REPUBLIC OF KOREA, has been added as a party to this venture.

Also, Advanced Driver Information Technology, Aichi-Ken, JAPAN; Cirrus Logic, Inc. Fremont, CA; Everbest Technology Development Ltd., North Point, HONG KONG-CHINA; and National Semiconductor Corp., Santa Clara, CA, have withdrawn as parties to this venture.

In addition, Arvato Digital Services GmbH has changed its name to Arvato Entertainment Europe GmbH, Gutersloh, GERMANY; and Hyundai Digital Technology Co., Ltd. has changed its name to JB Amusement Co., Ltd., Kyoungki-do, REPUBLIC OF KOREA.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on December 3, 2012. A notice was published in the Federal Register pursuant to Section 6(b) of the Act on January 2, 2013 (78 FR 118).

Patricia A. Brink,
Director of Civil Enforcement, Antitrust Division.

[FR Doc. 2013-06522 Filed 3-20-13; 8:45 am]

BILLING CODE P